CORPORATION FOR NATIONAL AND COMMUNITY SERVICE

Information Collection; Submission for OMB Review; Comment Request

AGENCY: Corporation for National and Community Service.

ACTION: Notice.

SUMMARY: The Corporation for National and Community Service (hereinafter the “Corporation”), has submitted a public information collection request (ICR) entitled AmeriCorps*VISTA Progress Report to the Office of Management and Budget (OMB) for review and approval in accordance with the Paperwork Reduction Act of 1995, Pub. L. 104-13, (44 U.S.C. Chapter 35). Copies of this ICR, with applicable supporting documentation, may be obtained by calling the Corporation for National and Community Service, Ms. Carol Rogers at (202) 606-6815 or e-mail at crogers@cns.gov. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from this date of publication in this Federal Register:

(1) By fax to: (202) 395-6974, Attention Ms. Katherine Astrich, OMB Desk Officer for the Corporation for National and Commuity Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submission of responses.

Comments: A 60-day comment Notice was published in the Federal Register on March 3, 2005. This comment period ended May 2, 2005 and resulted in no comments being received.

Description: The Corporation requests reinstatement, with changes, of its AmeriCorps*VISTA Project Progress Report which reflects the Corporation's intention to modify selected sections of the collection instrument to reflect changes in data considered “core reporting” information to meet a variety of needs, including modification of data elements, including adding new data elements as needed to ensure information collection captures appropriate data for the Corporation's required performance measurement and other reporting.

The Project Progress Report (PPR) was designed to assure that AmeriCorps*VISTA sponsors address and fulfill legislated program purposes, meet agency program management and grant requirements, and assess progress toward work plan objectives agreed upon in the granting of the memorandum of agreement.

Further, the reinstatement of the previously used PPR will: (a) Enhance data elements collected via this information collection tool; (b) migrate the paper version of the form to the Corporation's electronic grants management system, eGrants; and (c) establish reporting periods consistent with the Corporation's integrated grants management and reporting policies.

Type of Review: Revision of a currently-approved collection.

Agency: Corporation for National and Community Service.

Title: AmeriCorps*VISTA Project Progress Report.

OMB Number: 3045-0043.

Agency Number: None.

Affected Public: AmeriCorps*VISTA sponsoring organizations, site supervisors, and members.

Total Respondents: 1300.

Frequency: Quarterly.

Average Time Per Response: 14.7 hours.

Estimated Total Burden Hours: 19,110 hours per submission. Total annual burden assuming quarterly submission is 74,440 hours.

Total Burden Cost (capital/startup): None.

Total Burden Cost (operating/maintenance): None.

Dated: August 18, 2005.
Howard Turner,
Acting Director, AmeriCorps*VISTA.

[FR Doc. 05-16765 Filed 8-23-05; 8:45 am]

BILLING CODE 6050-$$-P